DEPARTMENT OF AGRICULTURE

Farm Service Agency

7 CFR Part 772

RIN 0560-AG67

Servicing Minor Program Loans

AGENCY: Farm Service Agency, USDA.

ACTION: Correcting amendment.

SUMMARY: This document corrects the final regulations published December 16, 2003 (68 FR 69948), which consolidated servicing regulations for the Minor Loan Program currently administered by the Farm Service Agency. This amendment corrects an editorial mistake relating to a regulatory reference.

EFFECTIVE DATE: February 19, 2004.

FOR FURTHER INFORMATION CONTACT: Mel Thompson, Senior Loan Officer, Farm Service Agency; telephone: 202-720-7862; Facsimile: 202-690-1196; e-mail: mel_thompson@wdc.fsa.usda.gov. Persons with disabilities who require alternative means for communication (Braille, large print, audio tape, etc.) should contact the USDA Target Center at (202) 720-2600 (voice and TDD).

SUPPLEMENTARY INFORMATION: This document corrects final regulations that consolidated and clarified the servicing policies of the Farm Service Agency's Minor Loan Programs published in the Federal Register on December 16, 2003. Section 772.9(a)(3) as promulgated incorrectly states, “An exchange in accordance with § 772.7(b) has been concluded.” This document replaces the reference to § 772.7(b) with the correct reference to § 772.8.

For the reason stated above, 7 CFR 772.9 is corrected by making the following amendment:

PART 772—[AMENDED]

1. The authority citation continues to read as follows:

Authority: 5 U.S.C. 301, 7 U.S.C. 1989, 25 U.S.C. 490.

2. Revise paragraph 772.9(a)(3) to read as follows:

§ 772.9 Releases.

(a) * * *

(3) An exchange in accordance with § 772.8 has been concluded.

Signed in Washington, DC, on February 11, 2004.
James R. Little,
Administrator, Farm Service Agency.

[FR Doc. 04-3532 Filed 2-18-04; 8:45 am]

BILLING CODE 3410-05-P